DEPARTMENT OF AGRICULTURE

Forest Service

North Mt. Baker-Snoqualmie Resource Advisory Committee (RAC)

AGENCY: Forest Service, USDA.

ACTION: Notice of meeting.

SUMMARY: The North Mt. Baker-Snoqualmie Resource Advisory Committee (RAC) will meet on Thursday, July 18, 2002, at the Whatcom County Parks and Recreation Department Conference Room, 3373 Mt. Baker Highway, Bellingham, WA. The meeting will begin at 9 a.m. and last until approximately 3 p.m.

The purpose of the meeting will be to review projects under consideration for FY2003 Title II funding under the Secure Rural Schools and Community Self-Determination Act. Project proponents will do presentations, followed by a discussion, and then a prioritized list of recommended 2003 projects will be developed.

All North Mt. Baker-Snoqualmie Resource Advisory Committee meetings are open to the public. Interested citizens are encouraged to attend.

The North Mt. Baker-Snoqualmie Resource Advisory Committee advises Whatcom and Skagit Counties on projects, reviews project proposals, and makes recommendations to the appropriate USDA official for projects to be funded by Title II dollars. The North Mt. Baker-Snoqualmine Resource Advisory Committee was established to carry out the requirements of the Secure Rural Schools and Community Self-Determination Act.

FOR FURTHER INFORMATION CONTACT: Direct questions regarding this meeting to Jon Vanderheyden, Designated Federal Official, USDA Forest Service, Mt. Baker-Snoqualmie National Forest, 810 State Route 20, Sedra Woolley, Washington 98284 (360-856-5700, Extension 201).

Dated: June 12, 2002.
Larry Donovan,
Acting Designated Federal Official.

[FR Doc. 02-15545 Filed 6-19-02; 8:45 am]

BILLING CODE 3410-11-M